DEPARTMENT OF ENERGY

Federal Energy Regulatory Commission

Combined Notice of Filings #1

Take notice that the Commission received the following electric corporate filings:

Docket Numbers: EC23-101-000.

Applicants: BIF V Hollywood Carry LLC, BEP BIF V Hollywood AIV LLC, BIF V Hollywood Carry II, L.P., Duke Energy Renewables Holding Company, LLC, on Behalf of Its Public Utility Subsidiaries.

Description: Clarification to Exhibit B of June 29, 2023 Joint Application for Authorization Under Section 203 of the Federal Power Act of BIF V Hollywood Carry LLC, et al.

Filed Date: 7/21/23.

Accession Number: 20230721-5171.

Comment Date: 5 p.m. ET 7/31/23.

Docket Numbers: EC23-112-000.

Applicants: Elliott Associates, L.P., Elliott International, L.P., The Liverpool Limited Partnership.

Description: Joint Application for Authorization Under Section 203 of the Federal Power Act of Elliott Associates, L.P., et al.

Filed Date: 7/21/23.

Accession Number: 20230721-5172.

Comment Date: 5 p.m. ET 8/11/23.

Take notice that the Commission received the following electric rate filings:

Docket Numbers: ER23-1703-002.

Applicants: Stanton Battery Energy Storage, LLC.

Description: Tariff Amendment: Second Amendment to Application of MBR Authority to be effective 6/5/2023.

Filed Date: 7/24/23.

Accession Number: 20230724-5082.

Comment Date: 5 p.m. ET 7/31/23.

Docket Numbers: ER23-1749-001.

Applicants: Midcontinent Independent System Operator, Inc.

Description: Tariff Amendment: 2023-07-24_SA 3235 ITC Midwest-Duane Arnold Deficiency Resp 1st Rev GIA (J504) to be effective 4/21/2023.

Filed Date: 7/24/23.

Accession Number: 20230724-5163.

Comment Date: 5 p.m. ET 8/14/23.

Docket Numbers: ER23-2469-000.

Applicants: Lost Creek Wind, LLC.

Description: Market: Revisions to MBR Tariff—Change in Seller Status & Triennial Update to be effective 7/22/2023.

Filed Date: 7/21/23.

Accession Number: 20230721-5157.

Comment Date: 5 p.m. ET 9/19/23.

Docket Numbers: ER23-2470-000.

Applicants: PJM Interconnection, L.L.C.

Description: § 205(d) Rate Filing: Original WMPA, Service Agreement No. 7031; Queue No. AF2-416 to be effective 9/23/2023.

Filed Date: 7/24/23.

Accession Number: 20230724-5065.

Comment Date: 5 p.m. ET 8/14/23.

Docket Numbers: ER23-2471-000.

Applicants: PJM Interconnection, L.L.C.

Description: § 205(d) Rate Filing: Amendment to ISA and CSA, SA Nos. 5866 and 5867; Queue No. AD1-082 (amend) to be effective 9/23/2023.

Filed Date: 7/24/23.

Accession Number: 20230724-5116.

Comment Date: 5 p.m. ET 8/14/23.

Docket Numbers: ER23-2472-000.

Applicants: PJM Interconnection, L.L.C.

Description: § 205(d) Rate Filing: ISA, First Revised Service Agreement No. 5187; Queue No. AF1-007 to be effective 9/25/2023.

Filed Date: 7/24/23.

Accession Number: 20230724-5121.

Comment Date: 5 p.m. ET 8/14/23.

Docket Numbers: ER23-2473-000.

Applicants: PJM Interconnection, L.L.C.

Description: § 205(d) Rate Filing: Designated Entity Agreement, SA No. 7002 between PJM and BGE to be effective 6/23/2023.

Filed Date: 7/24/23.

Accession Number: 20230724-5149.

Comment Date: 5 p.m. ET 8/14/23.

Docket Numbers: ER23-2474-000.

Applicants: PJM Interconnection, L.L.C.

Description: § 205(d) Rate Filing: Designated Entity Agreement, SA No. 7003 between PJM and BGE to be effective 6/23/2023.

Filed Date: 7/24/23.

Accession Number: 20230724-5157.

Comment Date: 5 p.m. ET 8/14/23.

Docket Numbers: ER23-2475-000.

Applicants: Duke Energy Florida, LLC.

Description: § 205(d) Rate Filing: DEF-OUC LGIA SA No. 85 to be effective 10/1/2023.

Filed Date: 7/24/23.

Accession Number: 20230724-5165.

Comment Date: 5 p.m. ET 8/14/23.

Docket Numbers: ER23-2476-000.

Applicants: Rochester Gas and Electric Corporation, New York Independent System Operator, Inc.

Description: § 205(d) Rate Filing: Rochester Gas and Electric Corporation submits tariff filing per 35.13(a)(2)(iii: NYISO-RG&E Joint 205: EPC Agreement for Excelsior Energy Center Project to be effective 7/10/2023.

Filed Date: 7/24/23.

Accession Number: 20230724-5169.

Comment Date: 5 p.m. ET 8/14/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: July 24, 2023.
Debbie-Anne A. Reese,
Deputy Secretary.

[FR Doc. 2023-16029 Filed 7-27-23; 8:45 am]

BILLING CODE 6717-01-P